DEPARTMENT OF COMMERCE

Foreign-Trade Zones Board

[B-68-2016]

Foreign-Trade Zone (FTZ) 277—Western Maricopa County, Arizona; Authorization of Production Activity; IRIS USA, Inc. (Plastic Household Storage/Organizational Containers); Surprise, Arizona

On September 29, 2016, IRIS USA, Inc. (IRIS) submitted a notification of proposed production activity to the Foreign-Trade Zones (FTZ) Board for its facility within FTZ 277—Site 12, in Surprise, Arizona.

The notification was processed in accordance with the regulations of the FTZ Board (15 CFR part 400), including notice in the Federal Register inviting public comment (81 FR 71045, October 14, 2016). The FTZ Board has determined that no further review of the activity is warranted at this time. The production activity described in the notification is authorized, subject to the FTZ Act and the Board's regulations, including Section 400.14.

Dated: January 27, 2017.
Andrew McGilvray,
Executive Secretary.

[FR Doc. 2017-02350 Filed 2-2-17; 8:45 am]

BILLING CODE 3510-DS-P